DEPARTMENT OF COMMERCE

Foreign-Trade Zones Board

[B-12-2025]

Foreign-Trade Zone (FTZ) 87, Notification of Proposed Production Activity; Phillips 66 Company; (Renewable Fuels); Lake Charles, Louisiana

Phillips 66 Company submitted a notification of proposed production activity to the FTZ Board (the Board) for its facility in Lake Charles, Louisiana, within FTZ Subzone 87A. The notification conforming to the requirements of the Board's regulations (15 CFR 400.22) was received on February 27, 2025.

Pursuant to 15 CFR 400.14(b), FTZ production activity would be limited to the specific foreign-status materials and specific finished products described in the submitted notification (summarized below) and subsequently authorized by the Board. The benefits that may stem from conducting production activity under FTZ procedures are explained in the background section of the Board's website—accessible via www.trade.gov/ftz. The proposed finished products would be added to the production authority that the Board previously approved for the operation, as reflected on the Board's website.

The proposed finished products include: Renewable Diesel; Sustainable Aviation Fuel; Renewable Naphtha; and, Renewable Gasoline (duty rate equals 10.5 cents/barrel).

Public comment is invited from interested parties. Submissions shall be addressed to the Board's Executive Secretary and sent to: ftz@trade.gov. The closing period for their receipt is April 15, 2025.

A copy of the notification will be available for public inspection in the “Online FTZ Information System” section of the Board's website.

For further information, contact Luke Engan at Luke.Engan@trade.gov.

Dated: March 3, 2025.
Elizabeth Whiteman,
Executive Secretary.

[FR Doc. 2025-03611 Filed 3-5-25; 8:45 am]

BILLING CODE 3510-DS-P